Proclamation 10455 of September 23, 2022

Gold Star Mother's and Family's Day, 2022

By the President of the United States of America

A Proclamation

Today and always, we honor the families of American service members who made the ultimate sacrifice to protect our lives and our liberties. Let us remember the heroes they lost, share in their grief, and support them as they navigate life without their loved ones by their sides.

The world teaches us time and again that peace is never guaranteed and that the blessings of a free society can never be taken for granted. As we again see the advance of authoritarianism around the globe, our Nation's service members continue to preserve and defend an idea rooted in freedom and democracy: the idea of the United States of America. They answer duty's call, prepared to sacrifice everything to keep our country safe and our fundamental principles strong and secure.

At every step, the families of these patriots share in the sacrifice—their service too often unseen, their heroism too often unsung. Military service often requires loved ones to celebrate life's milestones apart, parents to raise children alone, and partners to forgo each other's wisdom, comfort, and love when it is needed most. Deployments can bring uncertainty and fear—something my family has experienced firsthand. And for those who receive that devastating news—that their loved one is not returning home—life is never the same.

No words can fill the hole left in the heart of each of our Nation's Gold Star families. No ceremonies can replace the missing pieces of their souls. But we must never fail to recognize all these families have given for our Nation. We will uphold our fundamental duty to remember the lives of our fallen warriors and honor our sacred obligation to stand by their surviving families—always. And through my Administration's Joining Forces initiative, we will ensure that all military and veteran families, caregivers, and survivors have what they need to begin healing.

On Gold Star Mother's and Family's Day, our country renews its pledge to ensure that these heroes' families have the resources and the support they need in their loved ones' absences. We honor the Gold Star families who are there for one another even in their own grief, bringing solace to others who understand their pain. And on behalf of a grateful Nation, we thank these families for their service and their sacrifice. May God bless our troops and may God bless our Gold Star families.

The Congress, by Senate Joint Resolution 115 of June 23, 1936 (49 Stat. 1895 as amended), has designated the last Sunday in September as “Gold Star Mother's Day.”

NOW, THEREFORE, I, JOSEPH R. BIDEN JR., President of the United States of America, by virtue of the authority vested in me by the Constitution and the laws of the United States, do hereby proclaim Sunday, September 25, 2022, as Gold Star Mother's and Family's Day. I call upon all Government officials to display the flag of the United States over Government buildings on this special day. I also encourage the American people to display the flag and hold appropriate ceremonies as a public expression of our Nation's gratitude and respect for our Gold Star Mothers and Families.

IN WITNESS WHEREOF, I have hereunto set my hand this twenty-third day of September, in the year of our Lord two thousand twenty-two, and of the Independence of the United States of America the two hundred and forty-seventh.

[FR Doc. 2022-21141

Filed 9-27-22; 8:45 am]

Billing code 3395-F2-P